SMALL BUSINESS ADMINISTRATION

[Declaration of Disaster #3280]

Commonwealth of Pennsylvania

Allegheny and Westmoreland Counties and the contiguous Counties of Armstrong, Beaver, Butler, Cambria, Fayette, Indiana, Somerset, and Washington in the Commonwealth of Pennsylvania constitute a disaster area as a result of damages caused by flash flooding that occurred August 6 through 8, 2000. Applications for loans for physical damage from this disaster may be filed until the close of business on October 16, 2000 and for economic injury until the close of business on May 17, 2001 at the address listed below or other locally announced locations: U.S. Small Business Administration, Disaster Area 1 Office, 360 Rainbow Boulevard South, 3rd Floor, Niagara Falls, NY 14303.

The interest rates are:

| Percent
For Physical Damage:
Homeowners with credit available elsewhere | 7.375
Homeowners without credit available elsewhere | 3.687
Businesses with credit available elsewhere | 8.000
Businesses and non-profit organizations without credit available elsewhere | 4.000
Others (including non-profit organizations) with credit available elsewhere | 6.750
For Economic Injury:
Businesses and small agricultural cooperatives without credit available elsewhere | 4.000

The numbers assigned to this disaster are 328006 for physical damage and 9I0900 for economic injury.

(Catalog of Federal Domestic Assistance Program Nos. 59002 and 59008.)

Dated: August 17, 2000.
Kris Swedin,
Acting Administrator.

[FR Doc. 00-21619 Filed 8-23-00; 8:45 am]

BILLING CODE 8025-01-P